Proclamation 8794 of April 2, 2012

National Sexual Assault Awareness and Prevention Month, 2012

By the President of the United States of America

A Proclamation

Though we have come far in the fight to reduce sexual violence, the prevalence of sexual assault remains an affront to our national conscience that we cannot ignore. This month, we stand with survivors of sexual assault, join together to break the silence, and recommit to ending this devastating crime.

Rape and sexual assault inflict profound suffering upon millions of Americans every year. Nearly one in five women has been raped, and still more have endured other forms of sexual violence or abuse. Tragically, these crimes take their greatest toll on young people; women between the ages of 16 and 24 are at greatest risk of rape and sexual assault, and many victims, male and female, first experience abuse during childhood. The trauma of sexual violence leaves scars that may never fully heal. Many survivors experience depression, fear, and suicidal feelings in the months and years following an assault, and some face health problems that last a lifetime.

It is up to all of us to ensure victims of sexual violence are not left to face these trials alone. Too often, survivors suffer in silence, fearing retribution, lack of support, or that the criminal justice system will fail to bring the perpetrator to justice. We must do more to raise awareness about the realities of sexual assault; confront and change insensitive attitudes wherever they persist; enhance training and education in the criminal justice system; and expand access to critical health, legal, and protection services for survivors. As we fight sexual assault in our communities, so must we combat this crime within our Armed Forces. The Department of Defense provides additional resources for service members and military families at 1-877-995-5247 and at: www.SafeHelpline.org.

With the leadership of Vice President Joe Biden, my Administration is working to stop sexual violence before it begins and ensure justice for the countless men, women, and children who have already been harmed. Last year, we introduced comprehensive guidance to schools, colleges, and universities to clarify their obligations under existing civil rights law to prevent and respond to campus sexual assault. In January, we issued a revised definition of rape that will improve our understanding of where and how often this crime occurs. And today, we are collaborating with private organizations and agencies at every level of government to bolster advocacy and assistance for victims of sexual violence. All of us share a responsibility to those in need. By standing with survivors of rape and sexual assault and helping them secure the support and services they deserve, we do right by the ideals of compassion and service at the heart of the American character. For additional information and resources, visit: www.WhiteHouse.gov/1is2many.

During National Sexual Assault Awareness and Prevention Month, we rededicate ourselves to breaking the cycle of violence that threatens lives, erodes communities, and weakens our country. As we reflect on the progress we have made and the distance we have yet to go, let us recommit to empowering survivors and fighting for a safer future for every American.

NOW, THEREFORE, I, BARACK OBAMA, President of the United States of America, by virtue of the authority vested in me by the Constitution and the laws of the United States, do hereby proclaim April 2012 as National Sexual Assault Awareness and Prevention Month. I urge all Americans to support survivors of sexual assault and work together to prevent these crimes in their communities.

IN WITNESS WHEREOF, I have hereunto set my hand this second day of April, in the year of our Lord two thousand twelve, and of the Independence of the United States of America the two hundred and thirty-sixth.

[FR Doc. 2012-8335

Filed 4-4-12; 8:45 am]

Billing code 3295-F2-P